DEPARTMENT OF LABOR

Mine Safety and Health Administration

30 CFR Part 75

[Docket No. MSHA-2025-0087]

RIN 1219-AB89

Electronic Surveying Equipment in Underground Mines

AGENCY: Mine Safety and Health Administration (MSHA), Department of Labor.

ACTION: Proposed rule; request for comments.

SUMMARY: MSHA is proposing to allow the use of electronic surveying equipment in high-hazard areas of underground coal mines, if the equipment meets certain technical specifications and is operated under specific conditions. This proposed rule would codify technical specifications and working conditions in MSHA standards to allow the use of electronic surveying equipment in underground gassy mines. This proposed rule would reduce burdens on underground coal mine operators because mine operators would no longer need to submit a petition for modification to use non-permissible electronic surveying equipment.

DATES: Comments must be received on or before July 31, 2025.

ADDRESSES: All submissions must include RIN 1219-AB89 or Docket No. MSHA-2025-0087. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AB89 or Docket No. MSHA-2025-0087, by any of the following methods:

1. Federal E-Rulemaking Portal: http://www.regulations.gov. Follow the online instructions for submitting comments for MSHA-2025-0087.

2. Email: zzMSHA-comments@dol.gov. Include “RIN 1219-AB89” in the subject line of the message.

3. Regular Mail or Hand Delivery: MSHA, Office of Standards, Regulations, and Variances, Room C3522, 200 Constitution Avenue NW, Washington, DC 20210. Before visiting MSHA in person, call 202-693-9440 to make an appointment.

No telefacsimiles (“faxes”) will be accepted.

FOR FURTHER INFORMATION CONTACT: Jessica D. Senk, Acting Director, Office of Standards, Regulations, and Variances, MSHA at 202-693-9440 (voice). This is not a toll-free number.

SUPPLEMENTARY INFORMATION:

I. Background

Electronic Surveying Equipment

Safe underground mining depends heavily on accurate and up-to-date mapping. Not having accurate mine maps has been a contributing factor for several mine accidents in the United States. For instance, in 2002, there was a non-fatal entrapment accident at Quecreek Mine in Pennsylvania, caused by a water inundation due to the use of an undated and uncertified map that did not show the complete and final mine workings of the abandoned mine.¹ Through accurate maps, miners can avoid mining at the intersections of a mine with the abandoned workings of another mine which may contain explosive gas or a large quantity of water.

¹ Mine Safety and Health Administration (MSHA). 2003. Report of investigation: Underground coal mine nonfatal entrapment on July 22, 2002. Retrieved at: https://www.msha.gov/sites/default/files/Data_Reports/QuecreekInvestigationReport.pdf.

An integral part of creating maps in underground mining is surveying—measuring distances, angles, and elevations, relative to known positions. To carry out accurate mine surveying and mapping, operators need access to the most precise surveying technology that can be used safely in underground mine environments, where fire and explosion dangers abound. Modern surveying instruments are almost universally electronic and are powered by batteries, which can ignite a fire or explosion in a gassy mine.

The Federal Mine Safety and Health Act of 1977, as amended, (30 U.S.C. 801 et seq.) (Mine Act) requires MSHA to establish requirements for the technical design, construction, and testing of electrical products, including surveying equipment, that must be approved by MSHA prior to use in gassy mines. In underground gassy mines, flammable or explosive gases such as methane and/or float coal dust can form explosive mixtures when combined with air. Before electronic surveying equipment can be used in gassy mines in the U.S., it must first be approved by MSHA.

MSHA's requirements in title 30, Code of Federal Regulations (30 CFR) part 18 ensure electric motor-driven products are designed and manufactured so that they will not emit a spark strong enough, or temperature sufficient to cause a fire or explosion. Those seeking MSHA approval (applicants) are typically product designers and manufacturers of electrical products such as surveying equipment. MSHA's approval process includes testing and evaluating the electrical product to determine whether it performs according to certain technical and safety requirements. MSHA issues an approval if the electrical product passes all the tests and evaluations. Once the electrical product is approved by MSHA, it must display an MSHA approval marking indicating that the product is approved for use in gassy mines. MSHA sometimes refers to electrical products approved for use in gassy areas of mines as “permissible.” To continue to use the MSHA approval marking, the approval holder must maintain the quality of the electrical product according to the technical requirements upon which its approval was based.

Currently, there is no permissible electronic surveying equipment commercially available in the U.S. market. Mine operators must seek MSHA approval for the use of electronic surveying equipment in underground mines by filing petitions for modification under 30 CFR part 44.

Petitions for Modification

Section 101(c) of the Mine Act, 30 U.S.C. 811(c), allows mine operators or representatives of miners to file a petition, or request, to modify the application of any mandatory safety standard to a mine. MSHA reviews petitions for modification to determine whether the petitioner's alternative method of achieving the result of the standard will at all times guarantee no less than the same measure of protection afforded by the standard, or the application of the standard will result in a diminution of safety to miners.

30 CFR part 44 establishes the procedures and rules of practice for filing a petition for modification under section 101(c) of the Mine Act. Once a petition has been filed by a mine operator or representative of miners, a notice requesting comment on the petition is published in the Federal Register, and MSHA personnel investigate to promptly determine whether to grant or deny the petition. Taking into consideration the alternative methods proposed by the petitioner and any additional requirements, MSHA will grant the petition for modification if the Agency determines that the alternative method of achieving the result of the standard will at all times guarantee no less than the same measure of protection afforded by the standard, or the application of the standard will result in a diminution of safety to miners. The granted modification, together with any conditions, will have the same effect as a mandatory safety standard.

Through the petition for modification process, MSHA sometimes grants the use of non-permissible surveying equipment in areas of underground mines where the use of approved equipment is required. The granted petitions for modification generally propose very similar alternative methods, or conditions and terms, for the safe use of non-permissible surveying equipment in gassy areas of underground mines to ensure that miners are at all times afforded the same measure of protection if using permissible equipment.

II. Discussion

In 2008, mine operators filed various petitions seeking to use non-permissible electronic surveying equipment in high-hazard areas of underground coal mines where otherwise only permissible equipment was allowed. MSHA did not grant these petitions. Two rounds of litigation ensued, one ending in a 2016 ruling by the D.C. Circuit Court of Appeals (Rosebud Mining Co. & Parkwood Res., Inc. v. Mine Safety & Health Admin., 827 F.3d 1090 (D.C. Cir. 2016)) and the other ending with a 2018 Consent Order by the Assistant Secretary (In the Matter of Buchanan Minerals LLC, Consol PA and Southeastern Land LLC, 2018). While each of these litigation tracks involved different mines with unique and specific circumstances, a general set of terms and conditions for these petitions can be distinguished, such that, when these terms and conditions are met, non-permissible surveying equipment could be used without reducing the existing protections afforded to miners.

MSHA proposes to codify certain technical specifications and working conditions to allow the use of electronic surveying equipment in specified underground areas of underground coal mines, so that mine operators would no longer need to file petitions for modification. This proposed rule would allow mine operators to safely use the best and most current technology available, while not reducing miner safety.

This proposed rule would not revise the language of any Proposed Decisions and Orders granted by MSHA for non-permissible surveying equipment. Operators with petitions granted would decide between complying with the terms of their Proposed Decision and Order or complying with the requirements proposed in this rule and dismissing their petitions.

Under the proposed rule, there would be no change to existing ventilation requirements, methane monitoring requirements, de-energization requirements, and rock-dusting requirements. The Agency has preliminarily determined that this proposed rule, including the protective requirements that are generally consistent with the terms in granted petitions, would not reduce existing protection for miners.

MSHA seeks comments on any aspects of this proposed rule, including what records are appropriate to maintain to ensure compliance.

III. Section-by-Section Analysis

A. Section 75.1800—Purpose and Scope

This proposed rule would allow electronic surveying equipment that does not meet the requirements in part 18 to be used in high-hazard locations of a gassy mine. The proposed rule also establishes requirements for the features and maintenance of electronic surveying equipment and mandates the mining conditions where electronic surveying equipment can be used.

B. Section 75.1801—Definitions

The proposed rule defines electronic surveying equipment as battery-powered equipment essential for surveying (i.e., total stations and theodolites). This does not include electronic devices or accessories that are not essential for surveying, such as keyboards, spare batteries, and remote controls. This standard is specifically limited in scope to apply only to two essential types of instruments, total stations and theodolites, and is consistent with the scope of litigation between MSHA and operators, which did not include other instruments.

The proposed rule defines production activities as activities that generate coal dust or methane gas including, but not limited to, cutting, drilling, blasting, transporting, cleaning, loading, and unloading.

The proposed rule defines specified underground area as an underground area located in or inby the last open crosscut, in the return air outby the last open crosscut, or within 150 feet of the pillar workings or longwall faces. These areas are considered the areas where explosive concentrations of methane gas are most likely to occur.

The proposed rule defines underground mine surveyor as a qualified person for testing for methane under § 75.151 (Tests for methane; qualified person; additional requirement) and for testing air flow under § 75.152 (Tests of air flow; qualified person) and who also has experience or training in underground mine surveying.

C. Section 75.1802—Electronic Surveying Equipment

Proposed § 75.1802 would require that electronic surveying equipment taken into specified underground areas meet certain conditions. All petitions for modification granted since September 2018 for electronic surveying equipment in underground coal mines include a list of surveying equipment with less than an 8-volt operating voltage range. Since many types of “low-voltage” surveying equipment exist, MSHA sees no need to permit electronic surveying equipment operating at or above 8 volts.

Proposed paragraph (d) lists the nine voluntary consensus standards that MSHA would incorporate by reference in part 75 to be applicable to electronic surveying equipment taken into specified underground areas.

The proposed incorporation by reference of the nine voluntary consensus standards is consistent with the Office of Management and Budget's (OMB) Circular A-119 (Jan. 27, 2016 (81 FR 4673)), which establishes policy guidance for Federal agencies. Circular A-119, based on the National Technology Transfer and Advancement Act of 1995 (15 U.S.C. 3701 et seq.), section 12(d), directs Federal agencies to use technical standards developed or adopted by voluntary consensus standards bodies to carry out policies or activities. Additionally, Circular A-119 directs agencies to use voluntary consensus standards in lieu of government-unique standards, except where inconsistent with law or otherwise impractical. The intent of the policy guidance in Circular A-119 is to minimize agency reliance on government-unique standards to decrease the burden of complying with agency regulations and promote efficiency and economic competition through harmonization of standards. (See https://www.whitehouse.gov/wp-content/uploads/2017/11/Circular-119-1.pdf).

D. Section 75.1803—Requirements Before the Use of Electronic Surveying Equipment

Proposed § 75.1803 would specify requirements to assure that surveying equipment be in a safe condition before being used in the specified areas of an underground mine.

E. Section 75.1804—Continuous Monitoring During Electronic Surveying Equipment Operation

Proposed § 75.1804 would require surveyors to monitor with two portable methane detectors because of the risk of false negative readings or failures to detect methane entirely. Using two methane detectors would improve the safety of the surveyors and other miners in gassy mines because it offers an increased likelihood of detecting methane gas around the non-permissible equipment. Having two detectors lessens the likelihood of inadequate methane gas detection due to: sensor poisoning; physical damage from bumping or dropping; blockage of the sensor from dust, debris, and water; and any internal faults of the detector.

F. Section 75.1805—Requirements for the Use of Electronic Surveying Equipment on a Mechanized Mining Unit Where Production Activities Are Occurring

Proposed § 75.1805 specifies the requirements for the use of electronic surveying equipment on a mechanized mining unit where production activities are occurring. Because production activities may present conditions which are most hazardous in combination with non-permissible equipment (i.e., total stations and theodolites), there would be more stringent requirements for any surveying during production. Because production generates methane and coal dust from the working face, surveying should not be downwind of their discharge under any circumstances, in the ventilation path used by the mine, including the specified ventilation controls.

G. Section 75.1806—Requirements for Batteries Contained in Electronic Surveying Equipment

Proposed § 75.1806 addresses requirements for the batteries used in electronic surveying equipment to ensure their safe operation if methane or float coal dust is present.

H. Section 75.1807—Electronic Surveying Equipment Maintenance and Examination

Proposed § 75.1807 addresses the maintenance and examination requirements for electronic surveying equipment.

I. Section 75.1808—Training

Proposed § 75.1809 addresses the importance of training miners and underground surveyors on safety practices where new technologies are utilized and would require specific training for those who would be involved with or affected by the use of electronic surveying equipment. In addition to 30 CFR part 48 training requirements, MSHA is requiring specific training under this proposed rule to address concerns regarding the use of this electronic surveying equipment in the specified underground areas.

J. Incorporation by Reference

In proposed § 75.1802(a), MSHA would incorporate by reference the following voluntary consensus standards.

(1) American National Standards Institute (ANSI)/International Electrotechnical Commission (IEC) 60529-2020 Degrees of Protection Provided by Enclosures (IP Code) (Identical National Adoption of IEC 60529: 1989/AMD2:2013/COR1:2019), dated September 23, 2020.

(2) Underwriters Laboratories (UL) 1642 Standard for Safety, Lithium Batteries, Sixth Edition, September 29, 2020.

(3) UL 1642, Standard for Safety for Lithium Batteries, Fifth Edition, March 13, 2012.

(4) UL 1642, Standard for Safety for Lithium Batteries, Fourth Edition, September 19, 2005.

(5) UL 1642, Standard for Safety for Lithium Batteries, Third Edition, April 26, 1995.

(6) UL 1642, Standard for Lithium Batteries, Second Edition, November 18, 1992.

(7) UL 1642, Standard for Lithium Batteries, First Edition, October 24, 1985.

(8) UL 62133, Secondary Cells and Batteries Containing Alkaline or Other Non-Acid Electrolytes—Safety Requirements for Portable Sealed Secondary Cells, and for Batteries Made From Them, for Use in Portable Applications, Edition 2 Published Date: September 5, 2017; and

(9) UL 62133-2, Secondary Cells and Batteries Containing Alkaline or Other Non-Acid Electrolytes—Safety Requirements for Portable Sealed Secondary Cells, and for Batteries Made from Them, for Use in Portable Applications—Part 2: Lithium Systems, May 31, 2024.

The ANSI/IEC sometimes interpreted as Ingress Protection Marking, classifies and rates the degree of protection provided against intrusion (body parts such as hands and fingers), dust, accidental contact, and water by mechanical casings and electrical enclosures. UL 1642 (Ed. 1-6) addresses standards for non-rechargeable and secondary (rechargeable) lithium batteries for use as power sources in products. UL 62133 and UL 62133-2 are the most well-known lithium battery standards for safe use.

Availability of Standards To Be Incorporated by Reference

MSHA proposes to incorporate by reference one ANSI standard. This standard is available for purchase at: www.webstore.ansi.org. Copies of standards produced by the voluntary consensus standards listed in this section may also be obtained from the American National Standards Institute (ANSI), 1899 L Street NW, 11th Floor, Washington, DC 20036, phone: (202) 293-8020; website: (www.ansi.org). In addition, during the comment period and rulemaking process, the ANSI/IEC standard will be available for review, free of charge, at MSHA, Office of Standards, Regulations, and Variances, Room C3522, 200 Constitution Avenue NW, Washington, DC 20210 and at MSHA's Approval and Certification Center (A&CC) at 765 Technology Drive, Triadelphia, WV 26059 (304-547-0400).

There are eight UL standards that would be incorporated by reference in this proposed rule. These standards are available online and may be purchased on UL's website at: www.shopulstandards.com. They may also be obtained from UL Solutions (UL), Comm 2000, 151 Eastern Avenue, Bensenville, IL 60106, Tel: (888) 853-3503. In addition, during the comment period and rulemaking process, the UL standards will be available for review, free of charge, at MSHA, Office of Standards, Regulations, and Variances, Room C3522, 200 Constitution Avenue NW, Washington, DC 20210 and at MSHA's A&CC at 765 Technology Drive, Triadelphia, WV 26059 (304-547-0400).

IV. Procedural Issues and Regulatory Review

A. Review Under Executive Orders 12866 and 13563

Executive Order (E.O.) 12866, “Regulatory Planning and Review” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

E.O. 13563, “Improving Regulation and Regulatory Review” 76 FR 3821 (Jan. 21, 2011), requires agencies to use the best available techniques to quantify anticipated present and future benefits and costs as accurately as possible. E.O. 13563 reaffirms the principles of E.O. 12866 while calling for improvements in the nation's regulatory system to promote predictability, reduce uncertainty, and use the best, most innovative, and least burdensome tools for achieving regulatory ends.

E.O. 12866 and E.O. 13563 direct agencies to assess all costs and benefits of available regulatory alternatives and, if regulation is necessary, to select regulatory approaches that maximize net benefits. E.O. 13563 emphasizes the importance of quantifying both costs and benefits, of reducing costs, of harmonizing rules, and of promoting flexibility.

Under section 3(f) of E.O. 12866, a “significant regulatory action” is a regulatory action that is likely to result in a rule that may:

(1) have an annual effect on the economy of $100 million or more, or adversely affect in a material way the economy, a sector of the economy, productivity, competition, jobs, the environment, public health or safety, or state, local, or tribal governments or communities (also referred to as economically significant);

(2) create a serious inconsistency or otherwise interfere with an action taken or planned by another agency;

(3) materially alter the budgetary impact of entitlements, grants, user fees, or loan programs or the rights and obligations of recipients; or

(4) raise novel legal or policy issues arising out of legal mandates, the President's priorities, or the principles set forth in the E.O.

Under section 6(a) of E.O. 12866, the Office of Management and Budget's (OMB's) Office of Information and Regulatory Affairs (OIRA) determines whether a regulatory action is significant and whether Agencies are required to submit the regulatory action to OIRA for review. Revising the provisions concerning the use of electronic surveying equipment in high-hazard areas of underground coal mines would not impose new compliance cost to underground coal mine operators or reduce the protection afforded to miners. This proposed rule is determined to not constitute a “significant regulatory action” because it does meet any of the four “significant regulatory action” criteria under section 3(f) of E.O. 12866. Accordingly, this proposed rule was not submitted to OIRA for review under E.O. 12866.

No alternatives were considered for this proposed deregulatory action.

Background

Currently coal mine operators have to file petitions for modification in order to use electronic surveying equipment in underground mine environments and are only granted permission for their use if the petition is approved. MSHA assumes that, without this proposed rule, 111 mine operators without existing petitions would file petitions over the next 5-years. Under the proposed rule, the mine operators would no longer need to file petitions to use electronic surveying equipment. Under currently approved petitions for electronic surveying equipment, MSHA already requires mine operators to monitor methane levels, inspect surveying equipment regularly, and provide hazard awareness training to miners. These requirements would continue to be in place under the proposed rule and mine operators would be required to comply.

On average, each year there are 185 active underground coal mines that employ roughly 26,294 miners (excluding office workers) and produce an estimated 102.5 million tons of coal. All estimated figures are expressed in 2024 dollars.

Under the baseline scenario, coal mine operators would continue their current practice of filing petitions to be able to use electronic surveying equipment in underground mine environments if the petition is approved. Under the proposed rule, mine operators would no longer need to file petitions to use electronic surveying equipment. There would be no change to the existing requirements for mine operators using electronic surveying equipment: methane monitoring, regular surveying equipment inspection, and hazard awareness training to miners. These requirements would continue to be applied to all underground coal mines that use electronic surveying equipment under the proposed rule.

Benefits

This proposed rule would codify new standards for using electronic surveying equipment underground, based on technical specifications and working conditions. The proposed rule would substantially reduce future costs and delays related to filing and litigating petitions for modification. Out of 185 active underground coal mines, 42 mines held petitions concerning this type of equipment that had been granted by MSHA. These petitions show that, despite having to incur costs associated with filing a petition, a substantial number of mines find that using electronic surveying equipment is beneficial to their operations. Being able to use electronic surveying equipment (instead of non-electronic surveying equipment) would reduce the time needed for surveying underground mines, thus providing mine operators with both increased efficiency and accuracy in mine mapping, without diminishing safety.

Compliance Costs of Using Electronic Surveying Equipment

The total compliance costs associated with using electronic surveying equipment would result from allowing underground coal mine operators to purchase and use electronic surveying equipment without having to file a petition for modification. MSHA assumes the cost of filing a petition currently presents a barrier to the use of electronic surveying equipment, and when that barrier is removed the purchase and use of electronic surveying equipment would be economically feasible for more mine operators. The total compliance costs of using non-permissible electronic surveying equipment consist of the following:

1. Equipment purchases: MSHA estimates that mine operators would need to purchase 113 total stations over 10 years at a cost of $7,374 apiece. This results in a 10-year total cost of $0.83 million.

2. Methane monitoring by surveyors: MSHA estimates that surveyors in coal mines earning $65.99 per hour would spend a total of 125,488 hours over 10 years monitoring for methane, with a total cost of $8.28 million.

3. Examination of surveying equipment:

a. Pre-use examinations: MSHA estimates that surveyors would need to conduct 40,216 pre-use electronic surveying equipment examinations over 10 years at a unit cost of $5.51, resulting in a total cost of $0.22 million for pre-use examinations.

b. Weekly examinations: MSHA estimates mine operators would conduct 45,700 weekly examinations over 10 years at a unit cost of $9.48 per weekly examination, resulting in a total examination cost of $0.43 million.

4. Hazard awareness training for miners and surveyors: MSHA estimates mine operators would train 1,634 miners each year on the hazards involved in working with and around electronic surveying equipment. At an average wage of $57.85 per hour for coal miners and 1 hour for the training, the 10-year cost of training would be $0.9 million over 10 years.

Cost Savings

MSHA estimates that mine operators would accrue a cost reduction from no longer having to file petitions for modification. Under the baseline scenario, MSHA believes mine operators would continue to file petitions to use electronic surveying equipment, while no new petitions would be filed under the proposed rule. Over the 10-year analysis period, MSHA estimates that there would be 6 petitions filed and approved without revision, 110 filed and approved with revisions, and 13 petitions litigated. MSHA assumes that the associated costs are $6,367 per petition approved without revision, $25,468 per petition approved with revisions, and $397,943 per litigated petition.² Under the proposed rule, mine operators would not have to file petitions and would thus avoid petition associated costs of $8.01 million undiscounted over 10 years. The annualized cost savings would be $0.80 million at a 0 percent discount rate, $0.88 million at a 3 percent discount rate, and $0.99 million at a 7 percent discount rate.

² The litigation of a petition by a mine operator can take several years to resolve, which could amount to hundreds, and possibly even thousands of legal hours.

Summary

To use electronic surveying equipment, mine operators would incur compliance costs of $10.71 million undiscounted over 10 years, under both the baseline scenario (filing a petition in order to use electronic surveying equipment) or the proposed rule (using electronic surveying equipment without having to file a petition). Therefore, compliance costs are not considered incremental costs under the proposed rule.

Under the proposed rule, there would be incremental cost savings from avoiding petition and litigation costs that would be $8.01 million, when compared with the baseline scenario. MSHA estimates that the annualized cost savings for this proposed rule at discount rates of 0 percent, 3 percent, and 7 percent would be $0.80 million, $0.88 million, and $0.99 million, respectively.

B. Review Under the Regulatory Flexibility Act

The Regulatory Flexibility Act (RFA) of 1980, as amended by the Small Business Regulatory Enforcement Fairness Act (SBREFA) of 1996, requires preparation of an Initial Regulatory Flexibility Analysis (IRFA) for any rule that by law must be proposed for public comment, unless the agency certifies that the rule, if promulgated, would not have a significant economic impact on a substantial number of small entities. The RFA defines small entities to include small businesses, small organizations, including not-for-profit organizations, and small governmental jurisdictions.

Under the RFA, MSHA uses the Small Business Administration's (SBA) definition to set thresholds for small business sizes for the coal mining industry defined at the 6-digit North American Industry Classification System (NAICS) level. For underground coal mines the threshold is 1,500 employees.

MSHA evaluated data routinely provided by mine operators related to the number of mines, employment, and production from MSHA's Standardized Information System (MSIS) for underground coal mines. MSHA calculated revenue as production times the average price of coal. Using internal data, MSHA estimates that small coal mines produce roughly 92.1 million tons of coal annually. Using U.S Energy Information Administration Annual Coal Report 2023 Table 28, Average Sales Price of Coal by State and Mine Type, the average coal price was $54.04 per short ton in 2023. The price was then adjusted to 2024 dollars using CPI-U, $55.63 per short ton, to estimate national coal revenues of $5.1 billion generated by small coal mines.

MSHA assesses the impacts on small entities by comparing the estimated compliance costs of the proposed rule for small entities affected by the rule to the estimated revenues for the affected sector. When estimated compliance costs are less than 1 percent of the estimated revenues, the Agency believes it is generally appropriate to conclude that there is no significant economic impact on a substantial number of small entities. When estimated compliance costs exceed 1 percent of revenues, MSHA investigates whether further analysis is required. The impact as a percentage of revenue is essentially zero under the proposed rule: for small coal mine operators average annualized cost is $1.07 million while annual revenue is $5,121 million, resulting in the ratio of 0.021 percent. Thus, no further analysis is required.

MSHA considered the compliance costs on small mines when developing the proposed rule. MSHA reviewed this proposed rule under the provisions of the RFA, which eliminates burdensome regulations. Therefore, MSHA initially concludes that the impacts of the proposed rule would not have a “significant economic impact on a substantial number of small entities,” and the preparation of an IRFA is not warranted. MSHA will transmit this certification and supporting statement of factual basis to the Chief Counsel for Advocacy of the Small Business Administration for review under 5 U.S.C. 605(b).

C. Review Under the Paperwork Reduction Act

The Paperwork Reduction Act of 1995 (44 U.S.C. 3501 et seq.) provides for the Federal Government's collection, use, and dissemination of information. The goals of the Paperwork Reduction Act include minimizing paperwork and reporting burdens and ensuring the maximum possible utility from the information that is collected under 5 CFR part 1320. The Paperwork Reduction Act requires Federal agencies to obtain approval from OMB before requesting or requiring “a collection of information” from the public.

This proposed rule imposes no new information collection or recordkeeping requirements. The requirements for training recordkeeping are fully covered in a currently approved information collection request, OMB Control Number 1219-0009 “Training Plans and Records of Training for Underground Miners and Miners Working at Surface Mines and Surface Areas of Underground Mines.” There is no change to this information collection request.

However, this proposed rule would result in substantive changes to another currently approved information collection request, OMB Control Number 1219-0065 “Petitions for Modification of Mandatory Safety Standards.” The currently approved information collection request covers requirements in 30 CFR part 44, which set forth the procedures and rules to govern petitions for modification of mandatory safety standards filed under section 101(c) of the Mine Act.

Under this proposed rule, coal mine operators would no longer have to file petitions to use electronic surveying equipment in underground mine environments. This proposed change would decrease the paperwork burden and costs to mine operators as they would no longer file petitions for modification for using electronic surveying equipment in underground coal mines. MSHA proposes to revise the supporting statement for the information collection request 1219-0065 to reflect this and to seek public comment on these changes.

Type of Review: Substantive Change to currently approved information collection.

OMB Control Number: 1219-0065.

Title: Petitions for Modifications of Mandatory Safety Standards.

Description of the ICR:

Background

Under 30 CFR 44.4, mine operators can file a petition for modification to use an alternative method of achieving the same result of an existing standard that will at all times guarantee no less than the same measure of protection afforded by the standard. Currently, this is the only way mine operators are able to use electronic surveying equipment underground. Under the proposed rule, the requirements for using such equipment would be codified and mine operators would no longer have to file a petition for their use.

Based on MSHA records of petitions for modification received between 2021 through 2023, on average there were 46 total petitions submitted each year. Of these petitions, roughly 6 were requests to use non-permissible surveying equipment. Under this proposed rule, the Agency estimates that the average annual petitions would be reduced from current submissions of 46 to 40 petitions, as the 6 petitions for the use of non-permissible surveying equipment would no longer be needed. MSHA assumes that all 6 of those petitions would have been filed by underground coal mines, and that therefore, there would be a decrease in petitions from coal mines from 43 to 37 and no change in the number of petitions from MNM mines, 3.

Summary of Changes

This substantive change request will change the supporting statement for this information collection request due to an addition in the recordkeeping requirements in 30 CFR 75.1800 through 75.1808. Forty-six mines are affected by the existing standards and 40 mines would be required to provide information by the proposed rule. This change does not modify the authority or number of affected mine operators and contractors, but it decreases the paperwork burden and costs associated with filing petitions as captured by this information collection request.

The number of respondents, frequency of response, annual hour burden, and recordkeeping cost are described below.

1. Preparing and Filing Petitions for Modification (30 FR 44.10 and 44.11(a))

Under 30 CFR 44.10 and 44.11(a), a mine operator or any representative of miners may file a petition for modification of the application of a mandatory safety standard. MSHA assumes that all petitions will be filed by mine operators or by third-party sources on behalf of mine operators. MSHA assumes that approximately 31 of the annually submitted petitions would be prepared by mine operators, 29 petitions from coal mines and 2 from MNM mines. MSHA estimates that it takes 40 hours to prepare and file a petition, which will be completed by a coal or MNM mining supervisor, earning $95.72 or $75.63 per hour, respectively.

As related to these requirements the proposed rule would reduce the number of annual respondents from 37 to 31, the number of annual responses from 37 to 31, and the annual burden hours from 1,480 to 1,240.

Additionally, MSHA assumes that the 9 remaining petitions would be prepared by third-party sources (independent legal counsel) each year. MSHA estimates that it takes an independent counsel, earning $182.79 per hour, approximately 16 hours to prepare a petition. This will be a total of $26,322 spent preparing the 9 petitions. MSHA assumes that due to their simplicity all the non-permissible surveying equipment related petitions would have been prepared by mine operators and not third parties, therefore this recission does not impact the costs related to third-party preparations of petitions. There is an increase over the previous estimate of $24,814 however, it is due to an increase in wages and not the proposed rule.

The prepared petitions must be submitted to MSHA for review and approval. MSHA estimates that each year only 2 petitions are submitted by mail and 38 are submitted electronically. MSHA assumes that there is no filing cost if submitted electronically. MSHA estimates the mailing costs for petitions for modification is $8.00 for a certified mail from USPS, for a total cost of $16.00 to mail in petitions, this is unchanged from the previous estimate of recordkeeping costs.

2. Posting Copies of Petitions on the Mine Bulletin Boards (30 CFR 44.9)

Under 30 CFR 44.9, a mine operator must, when there is no representative of miners, post a copy of each petition for modification concerning the mine on the mine bulletin board and must maintain the posting until a ruling on the petition becomes final. MSHA assumes that all mine operators will post the petition for modification on the mine's bulletin board.

MSHA assumes that 37 petitions would come from coal mines and 3 from MNM mines. MSHA estimates that it takes 10 minutes to make copies of the petition and to post the petition to the mine bulletin board. This will be done by a coal or MNM clerk, earning $44.53 or $45.42 per hour, respectively.

As related to this item the proposed rule would result in a reduction of information collection cost. It would reduce the number of annual respondents from 46 to 40, the number of annual responses from 46 to 40, and the annual burden hours from 7.67 to 6.67.

Additionally, MSHA assumes that on average a petition for modification is 3 pages long and the printing cost is $0.15 per page, so the material cost of printing a copy of the petition would be $0.45. By reducing the number of petitions to be posted at the mine bulletin board by 6 this recission reduces the annual recordkeeping cost to respondents by $2.70. The annual recordkeeping cost to respondents would decrease from $20.70 to $18.00.

3. Serving Representatives of Miners With Petitions (30 CFR 44.10)

Under 30 CFR 44.10, if a petition is filed by a mine operator, a copy of the petition must be served to a representative of miners at the affected mine. MSHA assumes 40 petitions would be filed each year, 37 from coal mines and 3 from MNM mines. MSHA estimates that it takes 10 minutes to make copies of the petition and serve the petition to a representative of miners. A coal or MNM clerk earns $44.53 or $45.42 per hour, respectively. For a total cost of $297, this is an increase from the previous figure of $267 because while the decrease in the number of petitions submitted lowers the estimated cost an increase in wages more than offsets the decrease.

As related to this item the proposed rule would result in a reduction of information collection cost. It would reduce the number of annual respondents from 46 to 40, the number of annual responses from 46 to 40, and the annual burden hours from 7.67 to 6.67. The annual burden cost increases from $267 to $297, however this is due to an increase in wages and not the proposed rule.

Additionally, MSHA assumes that on average a petition for modification is 3 pages long and the printing cost is $0.15 per page, so the material cost of printing a copy of the petition would be $0.45. By reducing the number of petitions to be served to miners' representatives by 6 this recission reduces the annual other cost burden by $2.70. The annual recordkeeping cost to respondents would decrease from $20.70 to $18.00.

4. Serving Miners' Representative With Copies of the Final Actions Granting Petitions and Posting Copies to the Mine Bulletin Boards (30 CFR 44.5(b))

Under 30 CFR 44.5(b), every final action granting a petition for modification must be posted by the operator on the mine bulletin board at the affected mine and remain posted as long as the modification is effective. If a summary of the final action is posted on the mine bulletin board, a copy of the full decision must be kept at the affected mine office and made available to the miners.

MSHA assumes that 30 petitions would be approved each year, including 28 from coal mines and 2 from MNM mines. For the 6 annual petitions concerning the use of non-permissible surveying equipment, MSHA assumes on average 1 would have been denied petition and 5 approved. MSHA estimates that it takes 10 minutes to make copies of the final action and then to serve them to the miners' representative or post on the mine bulletin board. This will be done by a coal or MNM clerk, earning $44.53 or $45.42 per hour, respectively.

As related to this item the proposed rule would result in a reduction of information collection cost. It would reduce the number of annual respondents from 46 to 40, the number of annual responses from 35 to 30, and the annual burden hours from 5.83 to 5.00.

Additionally, MSHA assumes that a mine operator will make 2 copies of each final actions granting petitions: 1 to be posted on the bulletin board and 1 copy available to miners. MSHA assumes that on average a petition for modification is 3 pages long and the printing cost is $0.15 per page, so the cost of printing a copy of the petition would be $0.45. This recission would reduce the number of copies of final actions made by 10 (5 served to miners' representatives and 5 to posted to mine bulletin boards). This recission reduces the annual other cost burden from $32 to $27. The annual recordkeeping cost to respondents would decrease from $31.50 to $27.00.

Summary of the Collection of Information

Under the proposed rule, the estimated number of respondents, responses and annual burden hours would decrease from the currently approved information collection request. The reduction comes from the decrease in the number of petitions being submitted. Annual recordkeeping costs to respondents would increase slightly due to increases in wage rates, not the proposed rule.

Affected Public: Businesses or For-Profit.

Estimated Number of Respondents: 40 (−6 from proposed rule).

Frequency: On occasion.

Estimated Number of Responses: 141 (−23 from proposed rule).

Estimated Number of Burden Hours: 1,258 (−243 from proposed rule).

Estimated Recordkeeping Costs to Respondents: $26,401 ($1,571 from wage increases).

D. Review Under Executive Order 13132

E.O. 13132, “Federalism” 64 FR 43255 (August 10, 1999), imposes certain requirements on Federal agencies formulating and implementing policies or regulations that preempt State law or that have federalism implications. The E.O. requires agencies to examine the constitutional and statutory authority supporting any action that would limit the policymaking discretion of the States and to carefully assess the necessity for such actions. The E.O. also requires agencies to have an accountable process to ensure meaningful and timely input by State and local officials in the development of regulatory policies that have federalism implications.

MSHA has determined that the proposed rule would not have federalism implications because it would not have substantial direct effects on the States, on the relationship between the national government and the States, or on the distribution of power and responsibilities among the various levels of government. Accordingly, E.O. 13132 requires no further action or analysis.

E. Review Under Executive Order 12988

With respect to the review of existing regulations and the promulgation of new regulations, section 3(a) of E.O. 12988, “Civil Justice Reform” 61 FR 4729 (Feb. 7, 1996), imposes on Federal agencies the general duty to adhere to the following requirements: (1) eliminate drafting errors and ambiguity; (2) write regulations to minimize litigation; (3) provide a clear legal standard for affected conduct rather than a general standard; and (4) promote simplification and burden reduction. Regarding the review required by section 3(a), section 3(b) of E.O. 12988 specifically requires that Executive agencies make every reasonable effort to ensure that the regulation: (1) clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General.

Section 3 of E.O. 12988 contains requirements for Federal agencies promulgating new regulations or reviewing existing regulations to minimize litigation by eliminating drafting errors and ambiguity, providing a clear legal standard for affected conduct rather than a general standard, promoting simplification, and reducing burden. MSHA has reviewed the proposed rule and has determined that it would meet the applicable standards provided in E.O. 12988 to minimize litigation and undue burden on the Federal court system.

F. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

MSHA examined this proposed rule according to UMRA and its statement of policy and determined that the proposed rule does not contain a Federal intergovernmental mandate, nor is it expected to require expenditures of $100 million or more in any one year by State, local, and Tribal governments, in the aggregate, or by the private sector. As a result, no further Agency action or analysis is required.

G. Review Under the National Environmental Policy Act.

The National Environmental Policy Act (NEPA) of 1969 (42 U.S.C. 4321 et seq.), requires each Federal agency to consider the environmental effects of regulatory actions and to prepare an environmental impact statement on Agency actions that would significantly affect the quality of the environment; unless the action is considered categorically excluded under 29 CFR 11.10. MSHA has reviewed the proposed rule in accordance with NEPA requirements and the Department of Labor's NEPA procedures (29 CFR part 11). As a result of this review, MSHA has determined that this proposed rule would not impact air, water, or soil quality, plant or animal life, the use of land or other aspects of the human environment. Therefore, MSHA has not conducted an environmental assessment nor provided an environmental impact statement.

H. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, MSHA has concluded that it is not necessary to prepare a Family Policymaking Assessment.

I. Review Under Executive Order 12630

Pursuant to E.O. 12630, “Governmental Actions and Interference with Constitutionally Protected Property Rights” 53 FR 8859 (March 18, 1988), MSHA has determined that this proposed rule would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). MSHA has reviewed this proposed rule under the OMB and has concluded that it is consistent with applicable policies in the OMB guidelines.

K. Review Under Executive Order 13175

E.O. 13175, “Consultation and Coordination With Indian Tribal Governments” 65 FR 67249 (Nov. 9, 2000), requires agencies to consult with tribal officials when developing policies that may have “tribal implications.” This proposed rule does not have “tribal implications” because it will not “have substantial direct effects on one or more Indian tribes, on the relationship between the Federal Government and Indian tribes, or on the distribution of power and responsibilities between the Federal Government and Indian tribes.” Accordingly, under E.O. 13175, no further Agency action or analysis is required.

L. Review Under Executive Order 13211.

E.O. 13211, “Actions Concerning Regulations That Significantly Affect Energy Supply, Distribution, or Use” 66 FR 28355 (May 22, 2001), requires agencies to publish a statement of energy effects when a rule has a significant energy action that adversely affects energy supply, distribution, or use. MSHA has reviewed this proposed rule for its energy effects. For the energy analysis, this proposed rule will not exceed the relevant criteria for adverse impact.

M. Plain Language

Executive Orders 12866 and 13563 require regulations to be written in a manner that is easy to understand. MSHA has drafted the proposed rule in plain language.

N. Review Under Additional Executive Orders and Presidential Memoranda

MSHA has examined this proposed rule and has determined that it is consistent with the policies and directives outlined in E.O. 14154, “Unleashing American Energy” 90 FR 8353 (Jan. 29, 2025); E.O. 14192, “Unleashing Prosperity Through Deregulation” 90 FR 9065 (Feb. 6, 2025); and the Presidential Memorandum, “Delivering Emergency Price Relief for American Families and Defeating the Cost-of-Living Crisis” 90 FR 8245 (Jan. 28, 2025). This proposed rule is expected to be an E.O. 14192 deregulatory action.

List of Subjects in 30 CFR Part 75

Electric power, Incorporation by reference, Mandatory safety standards, Mine safety and health, Reporting and recordkeeping requirements, Training, Underground coal mines.

For the reasons set out in the preamble, and under the authority of the Federal Mine Safety and Health Act of 1977, as amended by the Mine Improvement and New Emergency Response (MINER) Act of 2006, MSHA is proposing to amend chapter I of title 30 of the Code of Federal Regulations as follows:

PART 75—MANDATORY SAFETY STANDARDS—UNDERGROUND COAL MINES

1. The authority citation for part 75 continues to read as follows:

Authority: 30 U.S.C. 811, 813(h), 957.

2. Add Subpart S, consisting of §§ 75.1800 through 75.1808, to read as follows:

Subpart S—Electronic Surveying Equipment

§ 75.1800 Purpose and Scope.

§ 75.1801 Definitions.

§ 75.1802 Electronic surveying equipment.

§ 75.1803 Requirements before the use of electronic surveying equipment.

§ 75.1804 Continuous monitoring during electronic surveying equipment operation.

§ 75.1805 Requirements for the use of electronic surveying equipment on a mechanized mining unit where production activities are occurring.

§ 75.1806 Requirements for batteries contained in electronic surveying equipment.

§ 75.1807 Electronic surveying equipment maintenance and examination.

§ 75.1808 Training.

§ 75.1800 Purpose and Scope.

(a) This subpart establishes requirements for electronic surveying equipment taken into and operated in or inby the last open crosscut, § 75.500(d), in the return air outby the last open crosscut, § 75.507-1(a), or within 150 feet of the pillar workings or longwall faces, § 75.1002(a), when electronic surveying equipment that meets the permissibility requirements in part 18 of this chapter does not exist.

(b) This subpart also establishes requirements for the features, use, and maintenance of electronic surveying equipment and the training of the personnel using such equipment. This part includes requirements for the use of electronic surveying equipment when production activities are occurring and when production activities cease.

§ 75.1801 Definitions.

The following definitions apply to this subpart:

Electronic surveying equipment. Battery-powered equipment essential for surveying, (i.e., total stations and theodolites). This definition does not include electronic devices or accessories that are not essential for surveying, such as keyboards, spare batteries, and remote controls.

Production activities. Activities that generate coal dust or methane gas including but are not limited to cutting, drilling, blasting, transporting, cleaning, loading, and unloading.

Specified underground area. An underground area located in or inby the last open crosscut, in the return air outby the last open crosscut, or within 150 feet of the pillar workings or longwall faces.

Underground mine surveyor. A qualified person for testing for methane under § 75.151 and for testing air flow under § 75.152 and who also has experience or training in underground mine surveying.

§ 75.1802 Electronic surveying equipment.

Electronic surveying equipment taken into specified underground areas must meet the following conditions:

(a) Electronic surveying equipment, including batteries when assembled for use, must have an ingress protection (IP) rating of 66 or greater under ANSI/IEC 60529-2020 and must operate at a voltage of less than 8 volts DC. Lithium batteries must also meet the Underwriters Laboratories (UL) 1642 safety standards for lithium batteries. Surveying equipment must only have onboard or integrated battery packs and no external battery packs.

(b) A theodolite must be no older than 5 years from the date of manufacture.

(c) A total station must be no older than 10 years from the date of manufacture.

(d) The material listed in this paragraph (d) is incorporated by reference into this section with the approval of the Director of the Federal Register under 5 U.S.C. 552(a) and 1 CFR part 51. All approved incorporation by reference (IBR) material is available for inspection at U.S. Department of Labor, Mine Safety and Health Administration (MSHA) and at the National Archives and Records Administration (NARA). Contact MSHA at 200 Constitution Avenue NW, Washington, DC 20210. For information on the availability of this material at NARA, visit www.archives.gov/federal-register/cfr/ibr-locations or email fr.inspection@nara.gov. The material may be obtained from the following sources in this paragraph (d).

(1) American National Standards Institute (ANSI), 1899 L Street NW, 11th Floor, Washington, DC 20036; phone: (202) 293-8020; website: www.ansi.org

(i) ANSI/IEC 60529-2020 Degrees of Protection Provided by Enclosures (IP Code) (Identical National Adoption of IEC 60529: 1989/AMD2:2013/COR1:2019), dated September 23, 2020.

(ii) [Reserved]

(2) UL Solutions. Comm 2000. 151 Eastern Avenue, Bensenville, IL 60106; phone: (888) 853-3503; website: www.ul.com.

(i) UL 1642 Standard for Safety, Lithium Batteries, Sixth Edition, September 29, 2020.

(ii) UL 1642, Standard for Safety for Lithium Batteries, Fifth Edition, March 13, 2012.

(iii) UL 1642, Standard for Safety for Lithium Batteries, Fourth Edition, September 19, 2005.

(iv) UL 1642, Standard for Safety for Lithium Batteries, Third Edition, April 26, 1995.

(v) UL 1642, Standard for Lithium Batteries, Second Edition, November 18, 1992.

(vi) UL 1642, Standard for Lithium Batteries, First Edition, October 24, 1985.

(vii) UL 62133, Secondary Cells and Batteries Containing Alkaline or Other Non-Acid Electrolytes—Safety Requirements for Portable Sealed Secondary Cells, and for Batteries Made From Them, for Use in Portable Applications, Edition 2 Published Date: September 5, 2017.

(viii) UL 62133-2, Secondary Cells and Batteries Containing Alkaline or Other Non-Acid Electrolytes—Safety Requirements for Portable Sealed Secondary Cells, and for Batteries Made from Them, for Use in Portable Applications—Part 2: Lithium Systems, May 31, 2024.

§ 75.1803 Requirements before the use of electronic surveying equipment.

(a) The underground mine surveyor must conduct a safety examination of electronic surveying equipment prior to taking it into the specified underground areas. The examination must include:

(1) Checking the equipment for any physical damage and integrity of the case;

(2) Examining all contact points to ensure a secure connection to the battery;

(3) Inspecting the battery pack for debris or corrosion;

(4) For equipment utilizing lithium type cells, ensuring that the lithium cells are not damaged and have not swelled in size;

(5) Reinserting the battery pack and powering up and shutting down the equipment to ensure proper connections;

(6) Checking the battery pack to ensure that it is securely fastened, with no dust or water ingress into the battery compartment; and

(7) Conducting all manufacturer-recommended checks and tests to ensure proper operations.

(b) If the approved mine ventilation plan requires a minimum air quantity in a specified underground area, then an underground mine surveyor will measure the air quantity immediately before taking the surveying equipment into that area.

(c) An underground mine surveyor must test for methane in the areas to be surveyed, in accordance with § 75.323. If excessive methane is found, then the mine operator must take actions specified under § 75.323 before surveying equipment is taken into a specified underground area.

(d) Prior to setting up and energizing the electronic surveying equipment in the specified underground areas:

(1) A certified person must conduct a visual examination to determine compliance under § 75.402, and to check the presence of accumulated float coal dust.

(2) The equipment may not be energized until rock dust has been applied under §§ 75.401-1, 75.400-2, and 75.403.

(e) Surveyors must be able to effectively communicate with the section foreman or equivalent mine official and miners on the working section at all times while the surveyor is conducting the surveying in a specified underground area.

§ 75.1804 Continuous monitoring during electronic surveying equipment operation.

(a)

(1) Underground mine surveyors must continuously monitor for methane immediately before and during the use of electronic surveying equipment in the specified underground areas. The underground mine surveyor(s) must monitor for methane with two portable detectors. All portable methane detectors must be MSHA-approved and maintained in permissible and proper operating condition as required under § 75.320.

(2) All methane detectors must provide visual and audible warning signals when methane is detected at or above 1.0 percent.

(b) When 1.0 percent or more of methane is detected, the electronic surveying equipment must not be energized or must be immediately deenergized if in use and immediately withdrawn from specified underground areas to outby the last open crosscut, out of the return, or more than 150 feet from pillar workings or longwall faces under § 75.323.

§ 75.1805 Requirements for the use of electronic surveying equipment on a mechanized mining unit where production activities are occurring.

On a mechanized mining unit where production activities are occurring, the following requirements must be met.

(a) Electronic surveying equipment may be used except as provided in paragraphs (a)(1) and (a)(2) of this section:

(1) Electronic surveying equipment must not be used downwind of the discharge point of any face ventilation controls, such as tubing or curtains.

(2) Electronic surveying equipment must not be used in a split of air ventilating a mechanized mining unit.

(b) Electronic surveying equipment must not be used within 150 feet of pillar workings or longwall faces.

(c) When surveying cannot be completed with ventilation controls in place, the underground mine surveyor must notify the mine operator for approval of any changes. All changes must comply with approved ventilation plans.

(1) Before and while any ventilation controls are changed, all production activities must cease in areas affected by the change.

(2) Once production activities cease and approved ventilation changes have been completed, a certified person must notify underground mine surveyors when surveying may resume.

(3) Ventilation controls must be reestablished immediately after the change is no longer necessary.

(4) Production activities may resume only after all ventilation controls are reestablished and are in compliance with the approved ventilation plan.

§ 75.1806 Requirements for batteries contained in electronic surveying equipment.

(a) Before each shift of surveying, all batteries for the electronic surveying equipment must be charged sufficiently to function the entire shift.

(b) Replacement batteries for electronic surveying equipment must be carried underground only in the compartment provided for a spare battery pack in the electronic surveying equipment carrying case. Replacement batteries must not be taken into the specified underground areas.

(c) Batteries contained in the electronic surveying equipment must be changed out in intake air outside of the specified underground areas.

(d) No batteries may be charged underground.

§ 75.1807 Electronic surveying equipment maintenance and examination.

(a) All electronic surveying equipment must be maintained to ensure safe operating condition. When a potentially dangerous condition is found with the equipment, such equipment must be immediately withdrawn from the specified underground areas and taken out of service and must be repaired before returning to service.

(b) As specified under § 75.1803(a), electronic surveying equipment must be examined weekly by a qualified person as defined by § 75.153 to assure safe operating condition.

(c) The mine operator must ensure that all electronic surveying equipment is serviced according to the manufacturer's recommendations.

§ 75.1808 Training.

(a) Miners and underground mine surveyors who will be involved with or affected by electronic surveying operations must be trained on the requirements of this subpart before the electronic surveying equipment can be used.

(b) Mine operators must train new miners and underground mine surveyors under § 48.5, train experienced miners and surveyors, under § 48.6, and train miners and surveyors assigned new work tasks under § 48.7 on the requirements of this subpart. The training must include hazard recognition specific to the mine.

(c) Mine operators must provide annual retraining to all miners and underground mine surveyors involved with or affected by surveying operations under § 48.8.

(d) Miners and underground mine surveyors using electronic surveying equipment must be trained to recognize the hazards and limitations associated with the use of electronic surveying equipment in the areas where methane could be present.

(e) Records of training required under this part must comply with part 48.

(f) Mine operators must provide such records to MSHA upon request.

James P. McHugh,
Deputy Assistant Secretary for Policy, Mine Safety and Health Administration.

[FR Doc. 2025-11741 Filed 6-30-25; 8:45 am]

BILLING CODE 4520-43-P